DEPARTMENT OF VETERANS AFFAIRS

Advisory Committee on Cemeteries and Memorials, Notice of Meeting

The Department of Veterans Affairs (VA) gives notice under Public Law 92-463 that a meeting of the Advisory Committee on Cemeteries and Memorials, authorized by 38 U.S.C. 2401, will be held Wednesday, April 10, and Thursday, April 11, 2002, from 8:30 a.m. until 4:30 p.m., at the Adam's Mark San Antonio, 111 Pecan Street East, San Antonio, TX 78205. This will be the Committee's second meeting of Fiscal Year 2002.

The purpose of the Committee meeting is to review the administration of VA's cemeteries and burial benefits program. On Wednesday, April 10, Committee members will discuss NCA's National Shrine Commitment and tour Fort Sam Houston National Cemetery.

On Thursday, April 11, members of the Committee will be informed about new cemetery construction, the State Cemetery Grants Program, legislative initiatives and issues related to the administration and maintenance of national cemeteries. The meeting will conclude with a review of past unfinished business, program recommendations and a discussion of future meeting sites and agenda topics.

The meeting will be open to the public. Individuals wishing to attend the meeting should contact Mrs. Paige Lowther, Designated Federal Official, National Cemetery Administration, [phone (202) 273-5157] no later than 12 noon (ET), March 29, 2002.

Any interested person may attend, appear before, or file a statement with the Committee. Individuals wishing to appear before the Committee should indicate this in a letter to Mrs. Paige Lowther, Designated Federal Official, National Cemetery Administration (40), 810 Vermont Avenue, NW., Washington, DC 20420. In any such letters, the writers must fully identify themselves and state the organization, association or person(s) they represent. In addition, to the extent practicable, letters should indicate the subject matter to be discussed. Oral presentations should be limited to 10 minutes in duration. Individuals wishing to file written statements to be submitted to the Committee must also mail or deliver them to Mrs. Lowther.

Letters and written statements as discussed above must be mailed or delivered in time to reach Mrs. Lowther by 12 noon (ET), March 29, 2002. Oral statements will be heard between 10 a.m. and 10:30 a.m. (ET), April 11, 2002, at the Adam's Mark San Antonio, 111 Pecan Street East, San Antonio, TX 78205.

Dated: February 15, 2002.
By Direction of the Secretary.
Noral E. Egan,
Committee Management Officer.

[FR Doc. 02-4893 Filed 2-28-02; 8:45 am]

BILLING CODE 8320-01-M